DEPARTMENT OF ENERGY

Federal Energy Regulatory Commission

[Project No. 2309-019]

Jersey Central Power and Light Company, PSEG Fossil, LLC; Notice of Availability of Environmental Assessment

In accordance with the National Environmental Policy Act of 1969 and the Federal Energy Regulatory Commission's regulations, 18 CFR part 380, the Office of Energy Projects has reviewed the application for a new license for the 364.5-megawatt (MW) Yards Creek Pumped Storage Hydroelectric Project located on Yards Creek, in the townships of Hardwick and Blairstown, Warren County, New Jersey and has prepared an environmental assessment (EA). In the EA, Commission staff analyzes the potential environmental effects of licensing the project and conclude that issuing a license for the project, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via email of new filings and issuances related to this or other pending projects. For assistance, contact FERC Online Support.

Comments on the EA should be filed within 30 days from the issuance date of this notice, and should be addressed to the Secretary, Federal Energy Regulatory Commission, 888 First Street NE., Room 1-A, Washington, DC 20426. Please affix “Yards Creek Pumped Storage Hydroelectric Project No. 2309-019” to all comments. Comments may be filed electronically via Internet in lieu of paper. The Commission strongly encourages electronic filings. See 18 CFR 385.2001(a)(1)(iii) and the instructions on the Commission's Web site under the “eFiling” link. Although the Commission strongly encourages electronic filings, documents may also be paper-filed. To paper-file, mail an original and seven copies to: Kimberly D. Bose, Secretary, Federal Energy Regulatory Commission, 888 First Street NE., Washington, DC 20426. For further information contact Allyson Conner at (202) 502-6082.

Dated: February 6, 2012.
Kimberly D. Bose,
Secretary.

[FR Doc. 2012-3163 Filed 2-9-12; 8:45 am]

BILLING CODE 6717-01-P